DEPARTMENT OF VETERANS AFFAIRS

[OMB Control No. 2900-0227]

Agency Information Collection (Food Service and Nutritional Care Analysis) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before November 19, 2012.

ADDRESSES: Submit written comments on the collection of information through www.Regulations.gov; or to VA's OMB Desk Officer, OMB Human Resources and Housing Branch, New Executive Office Building, Room 10235, Washington, DC 20503 (202) 395-7316. Please refer to “OMB Control No. 2900-0227” in any correspondence.

FOR FURTHER INFORMATION CONTACT: Crystal Rennie, Enterprise Records Service (005R1B), Department of Veterans Affairs, 810 Vermont Avenue NW., Washington, DC 20420, (202) 632-7492, fax (202) 632-7583 or email crystal.rennie@va.gov. Please refer to “OMB Control No. 2900-0227.”

SUPPLEMENTARY INFORMATION: Title: Food Service and Nutritional Care Analysis, VA Form 10-5387.

OMB Control Number: 2900-0227.

Type of Review: Extension of a currently approved collection.

Abstract: VA will use the data collected to determine the level of patient satisfaction and quality of service resulting from advanced food preparation and advanced food delivery systems. All meals served are an integral part of a patient's therapy. VA Form 10-5387 will be used to collect and evaluate information needed to determine whether improvements are needed to enhance patient's nutritional therapy.

An agency may not conduct or sponsor, and a person is not required to respond to a collection of information unless it displays a currently valid OMB control number. The Federal Register Notice with a 60-day comment period soliciting comments on this collection of information was published on August 1, 2012, at pages 45717-45718.

Affected Public: Individuals or households.

Estimated Total Annual Burden: 4,187.

Estimated Average Burden per Respondent: 2 minutes.

Frequency of Response: On occasion.

Estimated Number of Respondents: 200.

Dated: October 15, 2012.
By direction of the Secretary.
William F. Russo,
Deputy Director, Office of Regulations Policy and Management, Office of the General Counsel, Department of Veterans Affairs.

[FR Doc. 2012-25756 Filed 10-18-12; 8:45 am]

BILLING CODE 8320-01-P